DEPARTMENT OF ENERGY

Federal Energy Regulatory Commission

[Docket No. EL10-82-000]

Southern Montana Electric Generation & Transmission Cooperative, Inc. v. NorthWestern Corporation; Notice of Complaint

August 25, 2010.

Take notice that on August 20, 2010, pursuant to section 206 of the Federal Power Act, 16 U.S.C. 824c, and Rule 206 of the Federal Energy Regulatory Commission's (Commission) Rules of Practice and Procedure, 18 CFR 385.206, Southern Montana Electric Generation & Transmission Cooperative, Inc. (Complainant) filed a complaint against NorthWestern Corporation (Respondent), alleging that the Respondent violated Commission policies and its Open Access Transmission Tariff by (1) using an “umbrella” or “enabling” agreement as the contractual basis for a long-term point-to-point transmission service and (2) billing the Complainant with respect to a transmission service for which they had not contracted.

Complainant certifies that copies of the complaint were served on the contacts listed for Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 9, 2010.

Kimberly D. Bose,
Secretary.

[FR Doc. 2010-21790 Filed 8-31-10; 8:45 am]

BILLING CODE 6717-01-P